DEPARTMENT OF TRANSPORTATION

Federal Aviation Administration

14 CFR Part 39

[Docket No. FAA-2004-19222; Directorate Identifier 2004-CE-29-AD; Amendment 39-13912; AD 2004-26-01]

RIN 2120-AA64

Airworthiness Directives; Eagle Aircraft (Malaysia) Sdn. Bhd. Model Eagle 150B Airplanes

AGENCY: Federal Aviation Administration (FAA), DOT.

ACTION: Final rule.

SUMMARY: The FAA adopts a new airworthiness directive (AD) for all Eagle Aircraft (Malaysia) Sdn. Bhd. Model Eagle 150B airplanes. This AD requires you to inspect the port and starboard undercarriage attach bracket for unwelded areas and replace the attach bracket if unwelded areas are found. This AD results from mandatory continuing airworthiness information (MCAI) issued by the airworthiness authority for Malaysia. We are issuing this AD to detect and correct inadequate welding of the undercarriage, which could result in cracks. This failure could lead to loss of control of the airplane.

DATES: This AD becomes effective on January 31, 2005.

As of January 31, 2005, the Director of the Federal Register approved the incorporation by reference of certain publications listed in the regulation.

ADDRESSES: To get the service information identified in this AD, contact Eagle Aircraft (Malaysia) Sdn. Bhd., P.O. Box 1028, Pejabat Pos Besar, Melanka, Malaysia, 75150; telephone: 011 606 317 4105; facsimile: 011 606 317 7213. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19222.

FOR FURTHER INFORMATION CONTACT: Karl Schletzbaum, Aerospace Engineer, Small Airplane Directorate, ACE-112, 901 Locust, Rm 301, Kansas City, Missouri 64106; telephone: (816) 329-4146; facsimile: (816) 329-4149.

SUPPLEMENTARY INFORMATION:

Discussion

What events have caused this AD? The Department of Civil Aviation, Malaysia (DCA), which is the airworthiness authority for Malaysia, recently notified FAA that an unsafe condition may exist on all Eagle Aircraft Sdn. Bhd. Model Eagle 150B airplanes. The DCA reports one case of finding cracks on a port main undercarriage attach bracket during a routine inspection. An unwelded area on the adjoining plates of the bracket may have caused stress that resulted in the cracking.

What is the potential impact if FAA took no action? Inadequate welding of the undercarriage attach bracket could result in cracks. This failure could lead to loss of control of the airplane.

Has FAA taken any action to this point? We issued a proposal to amend part 39 of the Federal Aviation Regulations (14 CFR part 39) to include an AD that would apply to all Eagle Aircraft Sdn. Bhd. Model Eagle 150B airplanes. This proposal was published in the Federal Register as a notice of proposed rulemaking (NPRM) on October 22, 2004 (69 FR 62003). The NPRM proposed to require you to inspect the port and starboard undercarriage attach bracket for unwelded areas and replace the attach bracket if unwelded areas are found.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 13 airplanes in the U.S. registry.

What is the cost impact of this AD on owners/operators of the affected airplanes? We estimate the following costs to accomplish the inspection:

Labor cost | Parts cost | Total cost per airplane | Total cost on U.S. operators
.5 work hours × $65 per hour = $32.50 | N/A | $32.50 | $422.50

We estimate the following costs to accomplish any necessary replacements that will be required based on the results of the inspection. We have no way of determining the number of airplanes that may need this replacement:

Labor cost | Parts cost | Total cost per airplane
1 work hour × $65 per hour = $65 | If the attach bracket requires replacement, Eagle Aircraft has agreed to provide the parts without cost | $65

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19222; Directorate Identifier 2004-CE-29-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-26-01 Eagle Aircraft (Malaysia) SDN. BHD.: Amendment 39-13912; Docket No. FAA-2004-19222; Directorate Identifier 2004-CE-29-AD.

When Does This AD Become Effective?

(a) This AD becomes effective on January 31, 2005.

What Other ADs Are Affected by This Action?

(b) None.

What Airplanes Are Affected by This AD?

(c) This AD affects Model Eagle 150B airplane, serial numbers 016 through 044, M1001 through M1003, and M1005, that are certificated in any category.

What Is the Unsafe Condition Presented in This AD?

(d) This AD is the result of unwelded areas on the undercarriage attach bracket. The actions specified in this AD are intended to detect and correct inadequate welding of the undercarriage, which could result in cracks. This failure could lead to loss of control of the airplane.

What Must I Do To Address This Problem?

(e) To address this problem, you must do the following:

Actions | Compliance | Procedures
(1) Inspect the port and starboard undercarriage attach bracket for unwelded areas. | Within 50 hours time-in-service after January 31, 2005 (the effective date of this AD). | Follow Eagle Aircraft Alert Service Bulletin SB 1123, dated August 8, 2004.
(2) If unwelded areas are found:
(i) Contact the manufacturer for replacement parts at mailing address Eagle Aircraft, P.O. Box 1028, Pejabat Pos Besar, Melaka, Malaysia 75150; telephone: (606) 317-4105, facsimile: (606) 317-7213;
(ii) Install the replacement parts. | Before further flight after the inspection required by paragraph (e)(1) of this AD. | Follow Eagle Aircraft Alert Service Bulletin SB 1123, dated August 8, 2004.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, Small Airplane Directorate, ACE-112, 901 Locust, Rm 301, Kansas City, Missouri 64106; telephone: (816) 329-4146; facsimile: (816) 329-4149.

Is There Other Information That Relates to This Subject?

(g) DCA CAM AD 001-08-2004, dated August 12, 2004, also addresses the subject of this AD.

Does This AD Incorporate Any Material by Reference?

(h) You must do the actions required by this AD following the instructions in Eagle Aircraft Alert Service Bulletin SB 1123, dated August 8, 2004. The Director of the Federal Register approved the incorporation by reference of this service bulletin in accordance with 5 U.S.C. 552(a) and 1 CFR part 51. To get a copy of this service information, contact Eagle Aircraft, P.O. Box 1028, Pejabat Pos Besar, Melaka, Malaysia, 75150; telephone: 011 606 317 4105; facsimile: 011 606 317 7213. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19222.

Issued in Kansas City, Missouri, on December 13, 2004.
James E. Jackson,
Acting Manager, Small Airplane Directorate, Aircraft Certification Service.

[FR Doc. 04-27814 Filed 12-21-04; 8:45 am]

BILLING CODE 4910-13-P